DEPARTMENT OF ENERGY

Federal Energy Regulatory Commission

[Docket No. RP03-349-000]

El Paso Natural Gas Company; Notice of Proposed Changes in FERC Gas Tariff

April 30, 2003.

Take notice that on April 23, 2003, El Paso Natural Gas Company (EPNG) tendered for filing, to be part of its FERC Gas Tariff, Second Revised Volume No. 1-A, Nineteenth Revised Sheet No. 1, to become effective May 23, 2003, and a firm transportation agreement.

EPNG states that the transportation agreement is being submitted for Commission review under the Commission's material deviation policies and has been listed on the tendered tariff sheet as a non-conforming agreement.

Any person desiring to be heard or to protest said filing should file a motion to intervene or a protest with the Federal Energy Regulatory Commission, 888 First Street, NE., Washington, DC 20426, in accordance with sections 385.314 or 385.211 of the Commission's rules and regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 7, 2003.

Magalie R. Salas,
Secretary.

[FR Doc. 03-11127 Filed 5-5-03; 8:45 am]

BILLING CODE 6717-01-P